DEPARTMENT OF THE TREASURY

Senior Executive Service; Social Inspector General for the Troubled Asset Relief Program; Performance Review Board

AGENCY: Treasury Department.

ACTION: Notice of members of the SIGTARP Performance Review Board.

SUMMARY: Pursuant to 5 U.S.C. 4314(c)(4), this notice announces the appointment of members of the Special Inspector General for the Troubled Asset Relief Program Performance Review Board (PRB). The purpose of this Board is to review and make recommendations concerning proposed performance appraisals, ratings, bonuses and other appropriate personnel actions for incumbents of SES positions in SIGTARP. The Board will perform PRB functions for other bureau positions if requested.

Compostion of SIGTARP PRB: The Board shall consist of at least three members. In the case of an appraisal of a career appointee, more than half the members shall consist of career appointees. The names and titles of the Board members are as follows:

Kevin Puvalowski, Deputy Special Inspector General.

Dr. Eileen Ennis, Deputy Special Inspector General, Operations.

Barry Holman, Deputy Special Inspector General, Audit.

Christopher Sharply, Deputy Special Inspector General, Investigations.

Brian Saddler, Chief Counsel to the Special Inspector General.

DATES: Effective Date: Membership is effective on the date of this notice.

FOR FURTHER INFORMATION CONTACT: Sally Ruble, Human Resources Specialist, 1500 Pennsylvania Avenue, NW., Washington, DC 20220, Telephone: 202 927-9457.

Dated: July 24, 2009.
Deborah Mason,
Director, Human Resources, Operations Division.

[FR Doc. E9-18200 Filed 7-31-09; 8:45 am]

BILLING CODE M